DEPARTMENT OF COMMERCE

International Trade Administration

[C-475-819, C-489-806]

Certain Pasta From Italy and the Republic of Türkiye: Final Results of the Expedited Fifth Sunset Reviews of the Countervailing Duty Orders

AGENCY: Enforcement and Compliance, International Trade Administration, Department of Commerce.

SUMMARY: The U.S. Department of Commerce (Commerce) finds that revocation of the countervailing duty orders on certain pasta from Italy and the Republic of Türkiye (Türkiye) would be likely to lead to continuation or recurrence of net countervailable subsidies at the rates indicated in the “Final Results of Expedited Sunset Reviews” section of this notice.

DATES: Applicable July 9, 2024.

FOR FURTHER INFORMATION CONTACT: Blair Hood, AD/CVD Operations, Office I, Enforcement and Compliance, International Trade Administration, U.S. Department of Commerce, 1401 Constitution Avenue NW, Washington, DC 20230; telephone: (202) 482-8329.

SUPPLEMENTARY INFORMATION:

Background

On July 24, 1996, Commerce published the countervailing duty orders on certain pasta from Italy and Türkiye.¹ On March 1, 2024, Commerce initiated the fifth sunset reviews of the Orders, pursuant to section 751(c) of the Tariff Act of 1930, as amended (the Act).² Commerce received a timely notice of intent to participate in each of these reviews from 8th Avenue Food & Provisions, Inc., Philadelphia Macaroni Company, and Winland Foods, Inc. (collectively, the domestic interested parties) within the deadline specified 19 CFR 351.218(d)(1)(i).³ The domestic interested parties claimed interested party status under section 771(9)(C) of the Act.⁴

¹ See Notice of Countervailing Duty Order and Amended Final Affirmative Countervailing Duty Determination: Certain Pasta (“Pasta”) from Italy, 61 FR 38544 (July 24, 1996); see also Notice of Countervailing Duty Order: Certain Pasta (“Pasta”) from Turkey, 61 FR 38546 (July 24, 1996) (collectively, Orders).

² See Initiation of Five-Year (Sunset) Reviews, 89 FR 15139 (March 1, 2024).

³ See Domestic Interested Parties' Letter, “Notice of Intent to Participate,” dated March 14, 2024.

⁴ Id. at 3.

Commerce received adequate substantive responses from the domestic interested parties within the 30-day deadline specified in 19 CFR 351.218(d)(3)(i).⁵ Commerce did not receive substantive responses from any government or respondent interested party to these proceedings. On April 23, 2024, Commerce notified the U.S. International Trade Commission that it did not receive an adequate substantive response from other interested parties.⁶ As a result, in accordance with section 751(c)(3)(B) of the Act and 19 CFR 351.218(e)(1)(ii)(C)(2), Commerce conducted expedited, i.e., 120-day, sunset reviews of the Orders.

⁵ See Domestic Interested Parties' Letter, “Substantive Response,” dated March 29, 2024.

⁶ See Commerce's Letter, “Sunset Reviews Initiated on March 1, 2024,” dated April 23, 2024.

Scope of the Orders

The product covered by the Orders is certain pasta. For a full description of the scope of the Orders, see the Issues and Decision Memoranda.⁷

⁷ See Memoranda, “Issues and Decision Memorandum for the Final Results of the Expedited Fifth Sunset Review of the Countervailing Duty Order on Certain Pasta from Italy,” dated concurrently with, and hereby adopted by, this notice; and “Issues and Decision Memorandum for the Final Results of the Expedited Fifth Sunset Review of the Countervailing Duty Order on Certain Pasta from the Republic of Türkiye,” dated concurrently with, and hereby adopted by, this notice (collectively, Issues and Decision Memoranda).

Analysis of the Comments Received

A complete discussion of all issues raised in these sunset reviews, including the likelihood of continuation or recurrence of subsidization in the event of revocation of the Orders and the net countervailable subsidy rates likely to prevail if the Orders were to be revoked, is provided in the Issues and Decision Memoranda. A list of topics discussed in the Issues and Decision Memoranda is included as the appendix to this notice. The Issues and Decision Memoranda are public documents and on file electronically via Enforcement and Compliance's Antidumping and Countervailing Duty Centralized Electronic Service System (ACCESS). ACCESS is available to registered users at https://access.trade.gov. In addition, a complete version of each Issues and Decision Memorandum can be accessed directly at https://access.trade.gov/public/FRNoticesListLayout.aspx.

Final Results of Sunset Reviews

Pursuant to sections 751(c)(1) and 752(b) of the Act, Commerce determines that revocation of the Order with respect to Italy would be likely to lead to continuation or recurrence of a countervailable subsidies at the following net countervailable subsidy rates:

Company | Subsidy rate (percent ad valorem)
Agritalia, S.r.l | 10.45
Arrighi S.p.A. Industrie Alimentari | 10.34
De Matteis Agroalimentare S.p.A | 9.64
Delverde, S.r.l | 13.25
F.lli DeCecco di Filippo Fara S. Martino S.p.A | 9.90
Industria Alimentare Colavita, S.p.A | 9.50
Isola del Grano, S.r.L | 17.19
Italpast S.p.A | 17.19
Italpasta S.r.l | 10.34
La Molisana Alimentari S.p.A | 11.31
Labor, S.r.L | 17.19
Molino e Pastificio DeCecco S.p.A. Pescara | 9.90
Pastificio Guido Ferrara | 8.83
Pastificio Campano, S.p.A | 9.96
Pastificio Riscossa F.lli Mastromauro S.r.L | 14.30
Tamma Industrie Alimentari di Capitanata | 13.25
All Others | 11.01

Pursuant to sections 751(c)(1) and 752(b) of the Act, Commerce determines that revocation of the Order with respect to Türkiye would be likely to lead to continuation or recurrence of a countervailable subsidies at the following net countervailable subsidy rates:

Company | Subsidy rate (percent ad valorem)
Filiz Gida Sanayi ve Ticaret A.S | 1.73
Maktas Makarnacilik ve Ticaret A.S | 13.19
Oba Makarnacilik Sanayi ve Ticaret | 13.18
All Others | 8.95

Administrative Protective Order

This notice serves as the only reminder to parties subject to an administrative protective order (APO) of their responsibility concerning the disposition of proprietary information disclosed under APO in accordance with 19 CFR 351.305(a). Timely written notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.218.

Dated: July 1, 2024.
Ryan Majerus,
Deputy Assistant Secretary for Policy and Negotiations, performing the non-exclusive functions and duties of the Assistant Secretary for Enforcement and Compliance.

Appendix

List of Topics Discussed in the Issues and Decision Memoranda

I. Summary

II. Background

III. Scope of the Order

IV. History of the Order

V. Legal Framework

VI. Discussion of the Issues

1. Likelihood of Continuation or Recurrence of a Countervailable Subsidy

2. Net Countervailable Subsidy Rates Likely to Prevail

3. Nature of the Subsidies

VII. Final Results of Expedited Sunset Review

VIII. Recommendation

[FR Doc. 2024-14986 Filed 7-8-24; 8:45 am]

BILLING CODE 3510-DS-P